DEPARTMENT OF DEFENSE

Office of the Secretary

32 CFR Part 235

[DOD-2005-OS-0149]

RIN 0790-AH86

Sale or Rental of Sexually Explicit Material on DoD Property (DoD Instruction 4105.70)

AGENCY: Department of Defense.

ACTION: Final rule; correction.

SUMMARY: On Wednesday, November 15, 2006 (71 FR 66457), the Department of Defense published a final rule, “Sale or Rental of Sexually Explicit Material on DoD Property (DoD Instruction 4105.70)”. This document corrects an error in the summary.

DATES: Effective Date: December 15, 2006.

FOR FURTHER INFORMATION CONTACT: Commander F. Stich, 703-602-4590.

Correction

In Federal Register at 71 FR 66457, the SUMMARY of the notice, “10 U.S.C. 2489a” is corrected to read “10 U.S.C. 2495b”. All other information remains unchanged.

Dated: November 21, 2006.
L.M. Bynum,
Alternate OSD Federal Register Liaison Officer, DoD.

[FR Doc. 06-9417 Filed 11-27-06; 8:45 am]

BILLING CODE 5001-06-M